DEPARTMENT OF THE INTERIOR

National Park Service

[NPS-WASO-NAGPRA-21346; PPWOCRADN0-PCU00RP14.R50000]

Notice of Intent To Repatriate Cultural Items: Field Museum of Natural History, Chicago, IL

AGENCY: National Park Service, Interior.

ACTION: Notice.

SUMMARY: The Field Museum of Natural History, in consultation with the appropriate Indian tribes or Native Hawaiian organizations, has determined that the cultural items listed in this notice meet the definition of sacred objects. Lineal descendants or representatives of any Indian tribe or Native Hawaiian organization not identified in this notice that wish to claim these cultural items should submit a written request to The Field Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to The Field Museum of Natural History at the address in this notice by August 4, 2016.

ADDRESSES: Helen Robbins, Repatriation Director, The Field Museum of Natural History, 1400 South Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of The Field Museum of Natural History, Chicago, IL, which meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1916, a buckskin dance skirt from the Smith River in Del Norte County, CA, represented by catalog number 62628, was accessioned by The Field Museum of Natural History. Museum records indicate that this item is Tolowa in origin. The source for this cultural item was recorded as “Old Ned's Wife,” likely collected by Grace Nicholson. This item was gifted to the Museum by Edward Ayer, who is presumed to have purchased the skirt from Ms. Nicholson in her Pasadena store. It is possible that this item was collected prior to the museum accession date.

In 1918, a Gala buckskin dress, represented by catalog number 62997, and a buckskin headband, represented by catalog number 62999, both from California, were accessioned by The Field Museum. Museum records indicate that these items are Tolowa in origin, and were purchased by Edward Ayer from Grace Nicholson's collection in Pasadena. It is possible that these items were collected prior to the museum accession date.

The buckskin dance skirt and the Gala buckskin dress were historically and are presently used by young women in a number of Tolowa ceremonies, including the World Renewal Ceremony (Nee-dash) and Puberty Ceremony. The buckskin headdress was and is used by men and boys during the same ceremonies. The role and significance of these ceremonial items to the people of northern California has been confirmed through consultation with the Tolowa Dee-ni' Nation, numerous ethnographic texts, and the contemporary records and publications of various museums, both in terms of their religious importance to the individual wearer and to the Tolowa Dee-ni' Nation (Tolowa people).

The Tolowa Dee-ni' are culturally affiliated with the area from which the sacred objects were removed. This is supported by consultation with the Tolowa Dee-ni' Nation and other northern California nations, Department of the Interior sources, and academic publications that closely detail genocide, relocations, political organization, and cultural practice over the course of northern California history from the 1800s to the present.

Determinations Made by The Field Museum of Natural History

Officials of The Field Museum of Natural History have determined that:

• Pursuant to 25 U.S.C. 3001(3)(C), the three cultural items described above are specific ceremonial objects needed by traditional Native American religious leaders for the practice of traditional Native American religions by their present-day adherents.

• Pursuant to 25 U.S.C. 3001(2), there is a relationship of shared group identity that can be reasonably traced between the sacred objects and the Tolowa Dee-ni' Nation (previously listed as the Smith River Rancheria, California).

Additional Requestors and Disposition

Lineal descendants or representatives of any Indian tribe or Native Hawaiian organization not identified in this notice that wish to claim these cultural items should submit a written request with information in support of the claim to Helen Robbins, Repatriation Director, The Field Museum of Natural History, 1400 S. Lake Shore Dr., Chicago, IL 60605, telephone (312) 665-7317, email hrobbins@fieldmuseum.org, by August 4, 2016. After that date, if no additional claimants have come forward, transfer of control of the sacred objects to the Tolowa Dee-ni' Nation (previously listed as the Smith River Rancheria, California) may proceed.

The Field Museum of Natural History is responsible for notifying the Big Lagoon Rancheria, California; the Blue Lake Rancheria, California; the Elk Valley Rancheria, California; the Tolowa Dee-ni' Nation (previously listed as the Smith River Rancheria, California); and the Cher-Ae Heights Indian Community of the Trinidad Rancheria, California, that this notice has been published.

Dated: June 20, 2016.
Melanie O'Brien,
Manager, National NAGPRA Program.

[FR Doc. 2016-15843 Filed 7-1-16; 8:45 am]

BILLING CODE 4312-50-P